DEPARTMENT OF HEALTH AND HUMAN SERVICES

National Institutes of Health

Center for Scientific Review; Notice of Closed Meetings

Pursuant to section 10(d) of the Federal Advisory Committee Act, as amended (5 U.S.C. App.), notice is hereby given of the following meetings.

The meetings will be closed to the public in accordance with the provisions set forth in sections 552b(c)(4) and 552b(c)(6), Title 5 U.S.C., as amended. The grant applications and the discussions could disclose confidential trade secrets or commercial property such as patentable material, and personal information concerning individuals associated with the grant applications, the disclosure of which would constitute a clearly unwarranted invasion of personal privacy.

Name of Committee: Center for Scientific Review Special Emphasis Panel; Bacterial Pathogenesis SEP.

Date: October 7-8, 2009.

Time: 10 a.m. to 1 p.m.

Agenda: To review and evaluate grant applications.

Place: National Institutes of Health, 6701 Rockledge Drive, Bethesda, MD 20892. (Virtual Meeting).

Contact Person: Rolf Menzel, PhD, Scientific Review Officer, Center for Scientific Review, National Institutes of Health, 6701 Rockledge Drive, Room 3196, MSC 7808 Bethesda, MD 20892, 301-435-0952, menzelro@csr.nih.gov.

This notice is being published less than 15 days prior to the meeting due to the timing limitations imposed by the review and funding cycle.

Name of Committee: Center for Scientific Review Special Emphasis Panel; Chronic Fatigue Syndrome, Fibromyalgia Syndrome, Temporomandibular Disorders.

Date: October 13-14, 2009.

Time: 8 a.m. to 5 p.m.

Agenda: To review and evaluate grant applications.

Place: National Institutes of Health, 6701 Rockledge Drive, Bethesda, MD 20892. (Virtual Meeting).

Contact Person: Lynn E. Luethke, PhD, Scientific Review Officer, Center for Scientific Review, National Institutes of Health, 6701 Rockledge Drive, Room 5166, MSC 7844 Bethesda, MD 20892, (301) 435-1018, luethkel@csr.nih.gov.

Name of Committee: Oncology 1-Basic Translational Integrated Review Group; Tumor Progression and Metastasis Study Section.

Date: October 15-16, 2009.

Time: 8 a.m. to 5 p.m.

Agenda: To review and evaluate grant applications.

Place: The Westin Arlington, 801 North Glebe Road, Arlington, VA 22203.

Contact Person: Manzoor Zarger, MS, PhD, Scientific Review Officer, Center for Scientific Review, National Institutes of Health, 6701 Rockledge Drive, Room 6208, MSC 7804 Bethesda, MD 20892, (301) 435-2477, zargerma@csr.nih.gov.

Name of Committee: Infectious Diseases and Microbiology Integrated Review Group; Clinical Research and Field Studies of Infectious Diseases Study Section.

Date: October 16, 2009.

Time: 8 a.m. to 6 p.m.

Agenda: To review and evaluate grant applications.

Place: The Westin St. Francis, 335 Powell Street, San Francisco, CA 94102.

Contact Person: Soheyla Saadi, PhD, Scientific Review Officer, Center for Scientific Review, National Institutes of Health, 6701 Rockledge Drive, Room 3211, MSC 7808 Bethesda, MD 20892, 301-435-0903, saadisoh@csr.nih.gov.

Name of Committee: Center for Scientific Review Special Emphasis Panel; Topics in Clinical Research and Field Studies.

Date: October 16, 2009.

Time: 1:30 p.m. to 3 p.m.

Agenda: To review and evaluate grant applications.

Place: The Westin St. Francis, 335 Powell Street, San Francisco, CA 94102.

Contact Person: Soheyla Saadi, PhD, Scientific Review Officer, Center for Scientific Review, National Institutes of Health, 6701 Rockledge Drive, Room 3211, MSC 7808 Bethesda, MD 20892, 301-435-0903, saadisoh@csr.nih.gov.

Name of Committee: Center for Scientific Review Special Emphasis Panel; Mechanistic Cardiac Function.

Date: October 20, 2009.

Time: 2:30 p.m. to 4:30 p.m.

Agenda: To review and evaluate grant applications.

Place: National Institutes of Health, 6701 Rockledge Drive, Bethesda, MD 20892. (Telephone Conference Call).

Contact Person: Russell T. Dowell, PhD, Scientific Review Officer, Center for Scientific Review, National Institutes of Health, 6701 Rockledge Drive, Room 4128, MSC 7814 Bethesda, MD 20892, (301) 435-1850, dowellr@csr.nih.gov.

Name of Committee: Center for Scientific Review Special Emphasis Panel; Methodology and Measurement in the Behavioral and Social Sciences.

Date: October 23, 2009.

Time: 8 a.m. to 6 p.m.

Agenda: To review and evaluate grant applications.

Place: Courtyard by Marriott Chevy Chase, 5520 Wisconsin Avenue, Chevy Chase, MD 20815.

Contact Person: Gabriel B. Fosu, PhD, Scientific Review Officer, Center for Scientific Review, National Institutes of Health, 6701 Rocklege Drive, Room 3215, MSC 7808 Bethesda, MD 20892, (301) 435-3562, fosug@csr.nih.gov.

Name of Committee: Center for Scientific Review Special Emphasis Panel; ICOHRTA Review.

Date: October 23, 2009.

Time: 8 a.m. to 12 p.m.

Agenda: To review and evaluate grant applications.

Place: InterContinental Mark Hopkins San Francisco, One Nob Hill, 999 California Street, San Francisco, CA 94108.

Contact Person: Dan D. Gerendasy, PhD, Scientific Review Officer, Center for Scientific Review, National Institutes of Health, 6701 Rockledge Drive, Room 5132, MSC 7843 Bethesda, MD 20892, 301-594-6830, gerendad@csr.nih.gov.

Name of Committee: Center for Scientific Review Special Emphasis Panel; AITRP Review.

Date: October 23, 2009.

Time: 1 p.m. to 5 p.m.

Agenda: To review and evaluate grant applications.

Place: InterContinental Mark Hopkins San Francisco, One Nob Hill, 999 California Street, San Francisco, CA 94108.

Contact Person: Dan D. Gerendasy, PhD, Scientific Review Officer, Center for Scientific Review, National Institutes of Health, 6701 Rockledge Drive, Room 5132, MSC 7843 Bethesda, MD 20892, 301-594-6830, gerendad@csr.nih.gov.

Name of Committee: Center for Scientific Review Special Emphasis Panel; Innovative Ultrasound Imaging and Small Business. (Overflow).

Date: October 23, 2009.

Time: 8 p.m. to 10 p.m.

Agenda: To review and evaluate grant applications.

Place: Millennium Knickerbocker Hotel Chicago, 163 East Walton Place, Chicago, IL 60611.

Contact Person: Xiang-Ning Li, MD, PhD, Scientific Review Officer, Center for Scientific Review, National Institutes of Health, 6701 Rockledge Drive, Room 5112, MSC 7854 Bethesda, MD 20892, 301-435-1744, Iixiang@csr.nih.gov.

(Catalogue of Federal Domestic Assistance Program Nos. 93.306, Comparative Medicine; 93.333, Clinical Research, 93.306, 93.333, 93.337, 93.393-93.396, 93.837-93.844, 93.846-93.878, 93.892, 93.893, National Institutes of Health, HHS)

Dated: September 16, 2009.
Jennifer Spaeth,
Director, Office of Federal Advisory Committee Policy.

[FR Doc. E9-23035 Filed 9-24-09; 8:45 am]

BILLING CODE 4140-01-M